DEPARTMENT OF LABOR

Employment and Training Administration

[NAFTA-5998]

Ibiden Graphite Of America Corporation, Portland, Oregon; Notice of Negative Determination Regarding Application for Reconsideration

By application postmarked May 29, 2002, a petitioner requested administrative reconsideration of the Department's negative determination regarding eligibility to apply for North American Free Trade Agreement-Transitional Adjustment Assistance (NAFTA-TAA), applicable to workers and former workers of the subject firm. The denial notice was signed on May 3, 2002, and was published in the Federal Register on May 17, 2002 (67 FR 35142).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of NAFTA-TAA for workers engaged in activities related to the production of carbon graphite machined products and raw graphite materials at Ibiden Graphite of America Corporation, Portland, Oregon was based on the finding that criteria (3) and (4) of the group eligibility requirements of paragraph (a)(1) of Section 250 of the Trade Act, as amended, were not met. There were no company imports of carbon graphite machined products and raw graphite materials from Mexico or Canada, nor did the subject firm shift production from Portland, Oregon to Mexico or Canada. The survey conducted by the Department of Labor revealed no imports of carbon graphite machined products and raw graphite materials from Canada or Mexico during the relevant period.

The petitioner appears to be alleging that the production performed by the subject firm is now being sent to a facility located in Boston, Massachusetts, who then send most of that work to Japan.

The alleged shifts in production to a foreign source other than Canada or Mexico or the imports from a foreign source other than Canada or Mexico are not relevant factors in meeting the eligibility requirements for NAFTA-TAA under Section 250 of the Trade Act of 1974.

Of note, on June 28, 2002 the workers were certified eligible to apply for Trade Adjustment Assistance under TA-W-41,424.

Conclusion

After review of the application and investigative findings, I conclude that there has been no error or misinterpretation of the law or of the facts which would justify reconsideration of the Department of Labor's prior decision. Accordingly, the application is denied.

Signed at Washington, DC this 12th day of July 2002.
Edward A. Tomchick,
Director, Division of Trade Adjustment Assistance.

[FR Doc. 02-18426 Filed 7-19-02; 8:45 am]

BILLING CODE 4510-30-P